DEPARTMENT OF HEALTH AND HUMAN SERVICES

Centers for Medicare and Medicaid Services

[Document Identifier: CMS-1491, CMS-R-26, CMS-1728, CMS-2540 and CMS-10098]

Agency Information Collection Activities: Submission for OMB Review; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Request for Medicare Payment—Ambulance and Supporting Regulations in 42 CFR Sections 410.1, 410.40, 424.124, 414.601, 414.605, 414.610, 414.611, 414.615, 414.620, and 414.625.; Form No.: CMS-1491 (OMB# 0938-0042); Use: This paper form is completed on an occasion basis by beneficiaries and/or ambulance suppliers. Also, it is submitted to a Medicare carrier to request payment for ambulance services.; Frequency: On occasion; Affected Public: Business or other for-profit, individuals or households, and not-for-profit institutions; Number of Respondents: 9,301,183; Total Annual Responses: 9,301,183; Total Annual Hours: 331,643.

2. Type of Information Request: Revision of a currently approved collection; Title of Information Collection: Information Collection Requirements (ICR) Contained in the Clinical Laboratory Improvement Amendments (CLIA) Regulations 42 CFR part 493.801, 493.803, 493.1232, 493.1233, 493.1234, 493.1235, 493.1236, 493.1239, 493.1241, 493.1242, 493.1249, 493.1251, 493,1252, 493.1253, 493.1254, 493.1255, 493.1256, 493.1261, 493.1262, 493.1263, 493.1269, 493.1273, 493.1274, 493.1278, 493.1283, 493.1289, 493.1291, and 493.1299; Form Number: CMS-R-26 (OMB approval #: 0938-0612); Use: The ICRs referenced in specified sections of 42 CFR part 493 outline the requirements necessary to determine an entity's compliance with CLIA. CLIA requires laboratories that perform testing on human beings to meet performance requirements (quality standards) in order to be certified by HHS; Frequency: Other: As needed; Affected Public: Business or other for-profit, not-for-profit institutions, Federal government, State, local or tribal gov't; Number of Respondents: 82,220; Total Annual Responses: 111,354,920; Total Annual Hours Requested: 9,887,917.

3. Type of Information Collection Request: Revision of a currently approved collection; Title of Information Collection: Home Health Agency Cost Report and Supporting Regulations in 42 CFR 413.20, 413.24 and 413.106; Form No.: CMS-1728 (OMB# 0938-0022); Use: Participating providers are required to submit annual information to CMS in order to achieve settlement of costs for health care services rendered to Medicare beneficiaries. The CMS-1728 is the form used by Home Health Agencies to report their health care costs to determine the amount reimbursable for services furnished to Medicare beneficiaries; Frequency: Annually; Affected Public: Business or other for profit, not for profit institutions, and State, Local or Tribal Gov.; Number of Respondents: 7,310; Total Annual Responses: 7,310; Total Annual Hours Requested: 1,311,060.

4. Type of Information Collection Request: Extension of a currently approved collection; Title of Information Collection: Skilled Nursing Facility Cost Report and Supporting Regulations in 42 CFR 413.20, 413.24, and 413.106; Form No.: CMS-2540-96 (OMB 0938-0463); Use: Form CMS-2540-96 is the form used by skilled nursing facilities participating in the Medicare program. This form reports the health care costs used to determine the amount of reimbursable costs for services rendered to Medicare beneficiaries; Frequency: Annually; Affected Public: Businesses or other for-profit; not-for-profit institutions and State, Local or Tribal Government; Number of Respondents: 13,000; Total Annual Responses: 13,000; Total Annual Hours: 2,480,000.

5. Type of Information Collection Request: New Collection; Title of Information Collection: 1-800-Medicare Beneficiary Satisfaction Survey; Form No.: CMS-10098 (OMB# 0938-NEW); Use: The Beneficiary Satisfaction survey is performed to insure that the CMS 1-800-Medicare helpline contractor is delivering satisfactory service to the Medicare beneficiaries. It gathers data on several helpline operations such as print fulfillment and website tools hosted on http://www.medicare.gov. Respondents to the survey are Medicare beneficiaries that have contacted the 1-800-Medicare number within the past week for benefits and services information.; Frequency: On occasion; Affected Public: Individuals or households; Number of Respondents: 14,400; Total Annual Responses: 14,400; Total Annual Hours: 1,800.

To obtain copies of the supporting statement and any related forms for the proposed paperwork collections referenced above, access CMS Web site address at http://cms.hhs.gov/regulations/pra/default.asp, or E-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503.

Dated: February 5, 2004.
John P. Burke, III,
Paperwork Reduction Act Team Leader, CMS Reports Clearance Officer, Office of Strategic Operations and Strategic Affairs, Division of Regulations Development and Issuances.

[FR Doc. 04-3160 Filed 2-12-04; 8:45 am]

BILLING CODE 4120-03-P